DEPARTMENT OF HOUSING AND URBAN DEVELOPMENT

[Docket No. FR-4736-N-10]

Notice of Proposed Information Collection for Public Comment—Public Housing Homeownership Program

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: October 15, 2002.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-0614, extension 4128, for copies of the proposed forms and other available documents. (This is not a toll-free number).

SUPPLEMENTARY INFORMATION: The Department will submit the proposed information collection to OMB for review, as required by the Paperwork Reduction Act of 1995 (44 U.S.C. Chapter 3.5, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public Housing Homeownership Program.

OMB Control Number: 2577-0233.

Description of the need for the information and proposed use: Under the Public Housing Homeownership Program, Public Housing Agencies (PHAs) make available public housing dwelling units; public housing projects, and other housing projects available for purchase by low-income families for use as principal residences by such families. Families who are interested in purchasing a unit must submit applications to the PHA or purchase and resale entities (PREs). A PRE must prepare and submit to the PHA and HUD a homeownership program before the PRE may purchase any public housing units or projects. The PRE must demonstrate legal and practical capability to carry out the program, provide a written agreement that specifies the respective rights and obligations of the PRE and the PRE. The PHA must develop a homeownership program and obtain HUD approval before it can be implemented, provide supporting documentation and additional supporting documentation for acquisition of nonpublic housing for homeownership. PHA applications can be submitted electronically via the Internet. PHAs will be required to maintain report annually on the public homeownership program.

Agency form numbers, if applicable: None.

Members of affected public: Local and State Governments, individuals and households.

Estimation of the total number of hours needed to prepare the information collection including number of respondents, frequency of response, and hours or response: 50 respondents (PHAs); annual submission per PHA; average hours for PHA response is 40 hours; the total reporting burden is 27,367 hours.

Status of the proposed information collection: Extension, with changes, additional documentation Required.

Authority: Section 3506 of the paperwork Reduction Act of 1995, 44 U.S.C. Chapter 35, as amended.

Dated: August 9, 2002.
Michael Liu,
Assistant Secretary for Public and Indian Housing.

[FR Doc. 02-20798 Filed 8-15-02; 8:45 am]

BILLING CODE 4210-33-M